DEPARTMENT OF LABOR

Office of the Secretary

Submission for OMB Emergency Review; Comment Request

The Department of Labor has submitted the Bloodborne Pathogens standard (Needlestick Safety) information collection request (ICR), utilizing emergency review procedures, to the Office of Management and Budget (OMB) for review and clearance in accordance with the Paperwork Reduction Act of 1995 (P.L. 104-13, 44 U.S.C. Chapter 35). OMB approval has been requested by April 18, 2001. A copy of this ICR, with applicable supporting documentation, may be obtained by calling the Department of Labor Departmental Clearance Officer, Ira Mills on 202-693-4122. Comments and questions about the ICR listed below should be submitted to the Office of Information and Regulatory Affairs, Attn: OMB Desk Officer for OSHA, Office of Management and Budget, Room 10235, Washington, DC 20503 (202-395-7316), and be received by April 18, 2001.

The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Occupational Safety and Health Administration.

Title: Bloodborne Pathogens; (Needlestick and Other Sharps Injuries).

OMB Number: 1218-0246.

Frequency: On Occasion.

Affected Public: Business or other for-profit; Federal Government; State, Local or Tribal Government.

Number of Respondents: 502,724.

Estimated Time Per Respondent: 50 minutes.

Total Burden Hours: 1,234,797.

Total Burden Cost (capital/startup): 0.

Total Burden Cost (operating/maintaining): 0.

Description: The Needlestick Safety and Prevention Act (NSPA) directs OSHA to amend the Bloodborne Pathogens standard to require that employers update their exposure control plans to reflect how employers implement new developments in control technology; solicit input from employees responsible for direct patient care in the identification, evaluation, and the selection of engineering and work practice controls; and, for certain employers, to establish and maintain a log of percutaneous injuries from contaminated sharps.

Ira L. Mills,
Departmental Clearance Officer.

[FR Doc. 01-9048 Filed 4-10-01; 8:45 am]

BILLING CODE 4510-26-P